FEDERAL MARITIME COMMISSION

Ocean Transportation Intermediary License Reissuances

Notice is hereby given that the following Ocean Transportation Intermediary licenses have been reissued by the Federal Maritime Commission pursuant to section 19 of the Shipping Act of 1984 (46 U.S.C. app. 1718), and the regulations of the Commission pertaining to the licensing of Ocean Transportation Intermediaries, 46 CFR part 515.

License No. | Name/Address | Date reissued
017992NF | A&C Import Export Services, Inc., 6317-A 18th Avenue, Suite #302, Brooklyn, NY 11204 | September 8, 2006.
003722NF | Falcon Transportation & Forwarding Corp., 500 Bi-County Blvd., Ste. 213, Farmingdale, NY 11735 | November 20, 2005.
004130F | GSG Investment Inc., dba Worldwide Logistics, Company, dba WWL, dba Trade Passage, 2411 Santa Fe Avenue, Unit C, Redondo Beach, CA 90278 | August 26, 2006.

Peter J. King,
Deputy Director, Bureau of Certification, and Licensing.

[FR Doc. E6-16890 Filed 10-11-06; 8:45 am]

BILLING CODE 6730-01-P